DEPARTMENT OF DEFENSE

Department of the Navy

[Docket ID: USN-2018-HQ-0024]

Submission for OMB Review; Comment Request

AGENCY: Department of the Navy, DoD.

ACTION: 30-Day information collection notice.

SUMMARY: The Department of Defense has submitted to OMB for clearance the following proposal for collection of information under the provisions of the Paperwork Reduction Act.

DATES: Consideration will be given to all comments received by May 29, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: Navy Flight Demonstration Squadron (Blue Angels) Backseat Rider Programs, OPNAV Forms 5720/13, 5720/14, 572/15; OMB Control Number 0703-XXXX.

OPNAV Forms 5720/13, “Media Rider Nominee” and 5720/14, “Key Influencer Nominee Form and Biography”

Affected Public: Individuals and Households.

Annual Burden Hours: 30.

Number of Respondents: 30.

Responses per Respondent: 2.

Annual Responses: 60.

Average Burden per Response: 30 minutes.

Frequency: On occasion.

OPNAV Form 5720/15, “F/A-18 Rider Letter and Medical Questionnaire”

Affected Public: Individuals and Households.

Annual Burden Hours: 120.

Number of Respondents: 240.

Responses per Respondent: 1.

Annual Responses: 240.

Average Burden per Response: 30 minutes.

Frequency: On occasion.

Total Annual Burden Hours: 150.

Average Burden per Response: 30 minutes.

Total Number of Respondents: 270.

Total Annual Responses: 300.

Respondent's Obligation: Voluntary.

Needs and Uses: This information collection requirement is necessary to medically clear and coordinate with individuals selected through the Key Influencer (KI) program and media personnel so that they may participate in backseat flights at Blue Angels' air shows and demonstrations. Flying these candidates, in coordination with media presence, is intended to promote the Navy and Marine Corps as professional and exciting organizations in which to serve.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: April 23, 2019.
Aaron T. Siegel,
Alternate OSD Federal Register Liaison Officer, Department of Defense.

[FR Doc. 2019-08581 Filed 4-26-19; 8:45 am]

BILLING CODE 5001-06-P